DEPARTMENT OF AGRICULTURE

Submission for OMB Review; Comment Request

July 23, 2020.

The Department of Agriculture has submitted the following information collection requirement(s) to the Office of Management and Budget (OMB) for review and clearance under the Paperwork Reduction Act of 1995, Public Law 104-13. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques and other forms of information technology.

Comments regarding this information collection received by August 27, 2020 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Forest Service

Title: Youth Conservation Corps Application & Medical History Forms.

OMB Control Number: 0596-0084.

Summary of Collection: 16 U.S.C. 1701-1706, Chapter 37—Youth Conservation Corps and Public Lands Corps, Subchapter I—Youth Conservation Corps (Youth Conservation Corps Act of 1970 (Pub. L. 91-378; 84 Stat. 794) as amended in 1972 (Pub. L. 92-597) and in 1974 (Pub. L. 93-408), hereafter referred to as “the Act.”). This information collection request is submitted on behalf of the USDA Forest Service (FS) and Department of the Interior agencies Fish and Wildlife Service and National Park Service to collect information on applications and medical history forms to evaluate the eligibility of youths 15 to 18 years old for employment with the Youth Conservation Corps (YCC). FS and the Department of Interior cooperate to provide seasonal employment for eligible youth and in doing so prepare the young adults of this country for the ultimate responsibility of maintaining and managing these resources for the American people.

Need and Use of the Information: Youth, ages 15-18, who seek training and employment with participating agencies through the YCC must complete an application form (FS-1800-18) and once selected for employment must complete a medical history form (FS-1800-3). The applicant's parents or guardian must sign both forms. The application form is used in the random selection process and the medical history form provides information needed to determine certification of suitability, any special medical or medication needs, and a file record for the Federal Government and participants. The information collected provides participating agencies with data needed to select program participants.

Description of Respondents: Individuals or households.

Number of Respondents: 8,599.

Frequency of Responses: Annually.

Total Burden Hours: 4,238.

Ruth Brown,
Departmental Information Collection Clearance Officer.

[FR Doc. 2020-16325 Filed 7-27-20; 8:45 am]

BILLING CODE 3411-15-P